DEPARTMENT OF HEALTH AND HUMAN SERVICES

National Institutes of Health

Center for Scientific Review; Amended Notice of Meeting

Notice is hereby given of a change in the meeting of the Center for Scientific Review Special Emphasis Panel, June 30, 2003, 8 a.m. to July 1, 2003, 5 p.m. Holiday Inn Select Bethesda, 8120 Wisconsin Ave., Bethesda, MD, 20814 which was published in the Federal Register on June 16, 2003, 68 FR 35683-35685.

The ending time of the meeting has been changed to 3 p.m. on July 1, 2003. The meeting dates and location remain the same. The meeting is closed to the public.

Dated: June 23, 2003.
LaVerne Y. Stringfield,
Director, Office of Federal Advisory Committee Policy.

[FR Doc. 03-16499 Filed 6-30-03; 8:45 am]

BILLING CODE 4140-01-M